DEPARTMENT OF THE INTERIOR

National Park Service

60-Day Notice of Intention To Request Clearance of Information Collection—Opportunity for Public Comment

AGENCY: Department of the Interior, National Park Service, National Underground Railroad Network to Freedom Program.

ACTION: Notice and request for comments.

SUMMARY: Under the provisions of the Paperwork Reduction Act of 1995 (Pub. L. 104-13, 44 U.S.C. 3507) and 5 CFR part 1320, Reporting and Recordkeeping Requirements, the National Park Service invites public comments on an existing information collection. Comments are invited on: (1) The need for the information including whether the information has practical utility; (2) the accuracy of this reporting burden estimate; (3) ways to enhance the quality, utility, and clarity of the information to be collected on respondents, including the use of automated collection techniques or other forms of information technology. This program will measure performance in meeting goals as required by the 1995 Government Performance and Results Act.

Public Law 105-203 authorizes the National Park Service (NPS) to develop and administer the National Underground Railroad Network to Freedom (Network), a nationwide collection of governmental and nongovernmental sites, facilities, and programs associated with the historic Underground Railroad movement. The NPS has developed the application process through which associated elements can be included in the Network. The information collected will: (a) Verify associations to the Underground Railroad, (b) Measure minimum levels of standards for inclusion in the Network, and (c) Identify general needs for technical assistance.

DATES: Public comments on the proposed ICR will be accepted on or before July 1, 2003, to be assured of consideration.

ADDRESSES: Send comments to Diane Miller, National Coordinator, National Underground Railroad Network to Freedom Program, National Park Service, Midwest Regional Office, 1709 Jackson Street, Omaha, Nebraska, 68102.

All responses to this notice will be summarized and included in the requests for Office of Management and Budget (OMB) approval. All comments will become a matter of public record. Copies of the proposed ICR can be obtained from Diane Miller, National Coordinator, National Underground Railroad Network to Freedom Program, National Park Service, Midwest Regional Office, 1709 Jackson Street, Omaha, Nebraska 68102.

FOR FURTHER INFORMATION CONTACT: Diane Miller, 402-221-3749 or James Hill 402-221-3413.

SUPPLEMENTARY INFORMATION:

Title: NPS National Underground Railroad Network to Freedom Application.

Bureau Form Number: n/a.

OMB Number: 1024-0232.

Expiration Date: 11/30/2003.

Type of request: Extension of a currently approved information collection.

Description of need: The NPS has identified guidelines and criteria for associated elements to qualify for the Network. The application form document sites, programs, and facilities and demonstrates that they meet the criteria established for inclusion. The documentation will be incorporated into a database that will be available to the general public for information purposes.

Automated data collection: Respondents must verify associations and characteristics through descriptive texts that are the results of historical research. Evaluations are based on subjective analysis of the information provided, which often includes copies of rare documents and photographs. Much of the information is submitted in electronic format, but at the present time, there is not automated way to gather all of the required information.

Description of respondents: The affected public are state, tribal, and local governments, federal agencies, businesses, non-profit organizations, and individuals throughout the United States. Nominations to the Network are voluntary.

Estimated average number of respondents: 100.

Estimated average number of responses: 100.

Estimated average burden hours per response: 10.

Estimated frequency of response: once per respondent.

Estimated annual reporting burden: 1000 hours.

Dated: April 15, 2003.
Leonard E. Stowe,
Acting NPS Information Collection Clearance Officer, Washington Administrative Program Center.

[FR Doc. 03-10903 Filed 5-1-03; 8:45 am]

BILLING CODE 4310-70-M